DEPARTMENT OF COMMERCE

International Trade Administration

[A-570-893]

Certain Frozen Warmwater Shrimp From the People's Republic of China: Partial Rescission of Administrative Review; 2012-2013

AGENCY: Enforcement and Compliance, formerly Import Administration, International Trade Administration, Department of Commerce.

DATES: Effective Date: October 31, 2013.

FOR FURTHER INFORMATION CONTACT: Josh Startup, AD/CVD Operations, Office V, Enforcement and Compliance, International Trade Administration, U.S. Department of Commerce, 14th Street and Constitution Avenue NW., Washington DC 20230; (202) 482-5260.

Background

On March 29, 2013, the Department of Commerce (“the Department”) published in the Federal Register a notice of initiation of an administrative review of the antidumping duty order on certain frozen warmwater shrimp (“shrimp”) from the People's Republic of China (“PRC”) covering the period February 1, 2012 through January 31, 2013.¹ On May 24, 2013, the Department selected Zhanjiang Regal Integrated Marine Resources Co., Ltd., (“Regal”) as a mandatory respondent.² On September 12, 2013, the Department published the final results of the seventh administrative review of shrimp (“AR7”) from the PRC, in which the Department revoked the Order ³ with respect to Regal.⁴

¹ See Initiation of Antidumping and Countervailing Duty Administrative Reviews and Request for Revocation In Part, 78 FR 19197 (March 29, 2013).

² See Memorandum To: James Doyle, Director, Office 9, From: Alan Ray, Senior International Trade Analyst, Office 9, Re: Antidumping Duty Administrative Review of Certain Frozen Warmwater Shrimp from the People's Republic of China: Selection of Respondents for Individual Review, at 7.

³ See Notice of Final Determination of Sales at Less Than Fair Value: Certain Frozen and Canned Warmwater Shrimp From the People's Republic of China, 69 FR 70997 (December 8, 2004) (“Order”).

⁴ See Certain Frozen Warmwater Shrimp From the People's Republic of China: Final Results of Administrative Review; 2011-2012, 78 FR 56209 (September 12, 2013) (“AR7 Final Results”).

Partial Rescission

Because the Department revoked the Order with respect to Regal effective February 1, 2012,⁵ entries made by Regal on or after that date are not subject to the Order. Therefore, we are rescinding this review with respect to Regal.

⁵ Id., 78 FR at 56210.

Assessment Rates

Pursuant to the AR7 Final Results, the Department instructed Customs and Border Protection (“CBP”) to terminate the suspension of liquidation for subject merchandise exported by Regal that was entered, or withdrawn from warehouse, for consumption, on or after February 1, 2012, and instructed CBP to refund, with interest, any cash deposits for such entries. We intend to send instructions to CBP to notify them that this review is rescinded with respect to Regal.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: October 25, 2013.
Christian Marsh,
Deputy Assistant Secretary for Antidumping and Countervailing Duty Operations.

[FR Doc. 2013-26012 Filed 10-30-13; 8:45 am]

BILLING CODE 3510-DS-P